NATIONAL TRANSPORTATION SAFETY BOARD

Public Forum—Safety Culture: Enhancing Transportation Safety

On Tuesday and Wednesday, September 10-11, 2013, the National Transportation Safety Board (NTSB) will convene a forum titled, “Safety Culture: Enhancing Transportation Safety.” The forum will begin at 9:00 a.m. on both days and is open to all. Attendance is free, and no registration is required. NTSB Acting Chairman Deborah A.P. Hersman will serve as the Presiding Officer of the forum, and all five NTSB Board Members will serve as members of the Board of Inquiry. The forum is organized into six issue areas:

• Research Perspectives on Organizational Accidents;

• Techniques to Enhance Organizational Safety;

• Non-Transportation Perspectives on Safety Culture;

• Organizational Leadership Perspectives on Safety Culture;

• Safety Culture Management and Oversight in Transportation; and

• Companies and their Safety Culture Experiences.

The forum will address ways of enhancing safety by providing first-hand accounts of efforts from both transportation and non-transportation industries to develop effective safety cultures and to implement specific safety-enhancement techniques. Highlighting progress while recognizing remaining challenges, the invited panelists will discuss advances in safety culture research, and describe the roles, responsibilities, and methods for developing effective safety cultures within their industries.

There will also be a review of some recent organizational accidents that have been investigated by the NTSB. Invited panelists will include researchers, regulators, and industry leaders. Below is the preliminary agenda:

Tuesday, September 10 (9:00 a.m.-5:00 p.m.)

1. Opening Statement by Acting Chairman Hersman.

2. Introduction of the Technical Panels and Panelists.

3. Presentations from Panels One, Two, and Three and questions from the Board of Inquiry and the Technical Panels.

4. Closing Statement by Acting Chairman Hersman.

Wednesday, September 11 (9:00 a.m.-5:00 p.m.)

1. Opening Statement by Acting Chairman Hersman.

2. Introduction of the Technical Panels and Panelists.

3. Presentations from Panels Four, Five, and Six and questions from the Board of Inquiry and the Technical Panels.

4. Closing statement by Acting Chairman Hersman.

The full agenda and a list of participants can be found at: http://www.ntsb.gov/news/events/2013/safetyculture/index.html.

The forum will be held in the NTSB Board Room and Conference Center, located at 429 L'Enfant Plaza E., SW., Washington, DC. The public can view the forum in person or by live webcast at http://www.ntsb.gov. Webcast archives are generally available by the end of the next day following the forum, and webcasts are archived for a period of 3 months after the date of the event.

Individuals requesting specific accommodations should contact Rochelle Hall at rochelle.hall@ntsb.gov or by telephone at (202) 314-6305 by Friday, September 6, 2013.

NTSB Media Contact: Peter Knudson—peter.knudson@ntsb.gov.

NTSB Forum Managers: Loren Groff, Ph.D.—loren.groff@ntsb.gov.

Barry Strauch, Ph.D.—barry.strauch@ntsb.gov.

NTSB Forum Coordinator: Gena Evans—gena.evans@ntsb.gov.

Dated: August 23, 2013.
Candi R. Bing,
Federal Register Liaison Officer.

[FR Doc. 2013-21226 Filed 8-29-13; 8:45 am]

BILLING CODE 7533-01-P